GULF COAST ECOSYSTEM RESTORATION COUNCIL

[Docket No. 107122021-1111-02]

Notice of Proposed Subaward Under a Council-Selected Restoration Component Award

AGENCY: Gulf Coast Ecosystem Restoration Council.

ACTION: Notice.

SUMMARY: The Gulf Coast Ecosystem Restoration Council (RESTORE Council) publishes notice of a proposed subaward from the National Oceanic and Atmospheric Administration (NOAA) Restoration Center of the U.S. Department of Commerce to The Nature Conservancy (TNC), a non-profit organization, to conduct activities approved in Funded Priorities List 3b.

FOR FURTHER INFORMATION CONTACT: Please send questions by email to joshua.easton@restorethegulf.gov.

SUPPLEMENTARY INFORMATION: Section 1321(t)(2)(E)(ii)(III) of the Resources and Ecosystems Sustainability, Tourist Opportunities, and Revived Economies Act of 2012 (33 U.S.C. 1321(t)) (RESTORE Act) and Treasury's implementing regulation at 31 CFR 34.401(b), require that, for purposes of awards made under the Council-Selected Restoration Component, a State or Federal award recipient may make a grant or subaward to or enter into a cooperative agreement with a nongovernmental entity that equals or exceeds ten (10) percent of the total amount of the award provided to the State or Federal award recipient only if certain notice requirements are met. Specifically, at least 30 days before the State or Federal award recipient enters into such an agreement, the Council must publish in the Federal Register and deliver to specified Congressional Committees the name of the recipient and subrecipient; a brief description of the activity, including its purpose; and the amount of the award. This notice accomplishes the Federal Register requirement.

Description of Proposed Action

As specified in Funded Priorities List 3b, which is available on the Council's website at https://www.restorethegulf.gov/funded-priorities-list-3b, RESTORE Act funds in the amount of $11,971,250 to implement the Gulf of Mexico Coast Conservation Corps (GulfCorps) Program will be provided through an interagency agreement (IAA) with the National Oceanic and Atmospheric Administration (NOAA) Restoration Center of the U.S. Department of Commerce. The GulfCorps program supports the primary RESTORE Comprehensive Plan goal of restoring and conserving habitat. Under the GulfCorps Interagency Agreement, the NOAA Restoration Center will provide a subaward in the amount of $11,321,250 to The Nature Conservancy (TNC), a non-profit organization.

Through the TNC subaward, GulfCorps organizations in each Gulf state will recruit, train, employ and help to inspire hundreds of young adults to produce habitat restoration benefits and become the Gulf of Mexico's future restoration workforce. GulfCorps will continue to collaborate with State, Federal and local agencies, and non-profit organizations to manage natural resources and implement restoration, conservation and resilience projects.

Mark D. Bisgeier,
General Counsel.

[FR Doc. 2021-15109 Filed 7-15-21; 8:45 am]

BILLING CODE 6560-58-P